DEPARTMENT OF HEALTH AND HUMAN SERVICES

Centers for Disease Control and Prevention

[Program Announcement 00120]

West Nile Virus Surveillance Notice of Availability of Funds

A. Purpose

The Centers for Disease Control and Prevention (CDC) announces the availability of fiscal year (FY) 2000 funds for a cooperative agreement program for West Nile Virus Surveillance. This program addresses the “Healthy People 2010” focus area Immunization and Infectious Diseases. For a conference copy of “Healthy People 2010”, visit the internet site: <http://www.health.gov/healthypeople>

The purpose of the program is to assist states in developing and implementing dead bird and human/equine encephalitis surveillance activities focusing on West Nile (WN) Virus.

The WN fever outbreak in the northeastern United States (U.S.) in the summer and fall of 1999, represented the first incursion of this exotic arbovirus into the U.S. As of December 9, 1999, 62 confirmed or probable human cases of WN virus infection had been identified, including seven deaths.

The basic transmission cycle of WN fever involves mosquitoes feeding on birds infected with the WN virus. Infected mosquitoes then transmit WN virus to humans and animals. This virus outbreak occurred during the peak southerly bird migration, and the effect this migration had on the spread of the virus beyond the outbreak epicenter is unknown. Additional information may be found in 3 MMWR articles (attached in the application package).

B. Eligible Applicants

Assistance will be provided only to state health departments in the contiguous 48 states that are not currently receiving or eligible for WN funding through other CDC cooperative agreement programs. Thus, the following five states are eligible to apply for these funds under this announcement:

Arkansas, Idaho, Nevada, New Hampshire, and North Dakota.

No other applications are solicited.

All other state health departments in the contiguous 48 states are receiving or are eligible for WN surveillance funding in FY 2000 through other CDC programs including the Epidemiology and Laboratory Capacity (ELC) for Infectious Diseases, the Emerging Infections Program (EIP), and the Council for State and Territorial Health Departments (CSTE) cooperative agreements.

Note: Public Law 104-65 states that an organization described in section 501(c)(4) of the Internal Revenue Code of 1986 that engages in lobbying activities is not eligible to receive Federal funds constituting an award, grant, cooperative agreement, contract, loan, or any other form.

C. Availability of Funds

Approximately $450,000 is available in FY 2000 to fund five awards. It is expected that each approved applicant will receive an award not exceeding $90,000 (including direct and indirect costs). It is expected that the awards will begin on or about August 1, 2000 and will be made for a 12-month budget period within a project period of one year. Funding estimates may change.

D. Program Requirements

In conducting activities to achieve the purpose of this program, the recipient will be responsible for the activities under Recipient Activities, and CDC will be responsible for conducting activities under CDC Activities:

Recipient Activities

1. Develop or enhance dead bird and human/equine encephalitis surveillance activities, focusing on WN virus. Activities should be consistent with published CDC guidelines entitled Epidemic/Epizootic West Nile Virus in the United States: Guidelines for Surveillance, Prevention and Control, March 2000—available via the CDC Web site at: http://www.cdc.gov/ncidod/dvbid/ arbor/WN_surv_guide_Mar_2000.pdf

2. Conduct data analysis and interpret and disseminate results.

3. If proposed activities involve research on human participants, ensure appropriate Institutional Review Board (IRB) review.

CDC Activities

1. Provide overall multi-site project coordination.

2. Provide technical support in the design, implementation, and evaluation of program activities, if requested.

3. Assist in data analysis and dissemination of project findings as needed.

4. If during the project period research involving human subjects should be conducted and CDC scientists will be co-investigators in that research, assist in the development of a research protocol for IRB review by all institutions participating in the research project. The CDC IRB will review and approve the protocol initially and on at least an annual basis until the research project is completed.

E. Application Content

Use the information in the Program Requirements, Other Requirements, and Evaluation Criteria sections to develop the application content. Applications will be evaluated on the criteria listed in Section G., below, so it is important that narratives clearly address the criteria.

The narratives should be no more than 5 single-spaced pages along with a separate line-item budget and justification.

As indicated in the Availability of Funds section above, the maximum award to any single applicant will be $90,000 (including direct and indirect costs). Do NOT submit a budget for any more than $90,000 total. A budget justification is required for all budget items and must be submitted with Standard Form 424A, “Budget Information,” as part of the CDC application Form 0.1246(E). If requesting funds for any contractual activities, provide the following information for each contract or subaward: (1) Name of proposed contractor, (2) breakdown and justification for estimated costs, (3) description and scope of activities to be performed by contractor, (4) period of performance, (5) method of contractor selection (e.g., sole-source or competitive solicitation), and (6) method of accountability.

All pages of the applications must be single-spaced, printed on one side, with one inch margins and a font size of 12 on white 8.5″ x 11″ paper.

The required original application and two full copies must be submitted unstapled and unbound. Do not submit any bound or stapled materials (e.g., pamphlets, booklets, etc.) in the appendices. The entire application must be able to run through an automatic document feed copier.

F. Submission and Deadline

Application

Submit the original and two copies of CDC 0.1246. Forms are available in the application kit. On or before July 12, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC:

1. Objectives (40 points): The extent to which the objectives for the project are clear and consistent with the purpose and Program Requirements of this cooperative agreement announcement.

2. Operational Plan (60 points): The extent to which the operational plan is clear and appropriate to achieve the stated objectives, identifies the key personnel and organizations responsible for the proposed activities, and identifies a specific timetable for activities. If proposed activities involve research on human participants, the degree to which the applicant has met the CDC Policy requirements regarding the inclusion of women, ethnic, and racial groups in the proposed research. This includes: (a) The proposed plan for the inclusion of both sexes and racial and ethnic minority populations for appropriate representation; (b) The proposed justification when representation is limited or absent; (c) A statement as to whether the design of the study is adequate to measure differences when warranted; (d) A statement as to whether the plans for recruitment and outreach for study participants include the process of establishing partnerships with community(ies) and recognition of mutual benefits.

3. Budget (not scored): The extent to which the project budget includes detailed line-item justification and is appropriate for the activities proposed.

4. Human Subjects (not scored): If proposed activities involve research on human participants, does the application adequately address the requirements of Title 45 CFR Part 46 for the protection of human subjects?

H. Other Requirements

Technical Reporting Requirements

Provide CDC with original plus two copies of

1. Mid-program period progress report (due 6 months after award date);

2. financial status report, no more than 90 days after the end of the budget/project period; and

3. final performance report, no more than 90 days after the end of the budget/project period.

Send all reports to the Grants Management Specialist identified in the “Where to Obtain Additional Information” section of this announcement.

The following additional requirements are applicable to this program. For a complete description of each, sees Attachment I in the application kit.

AR-1 Human Subjects Requirements

AR-2 Requirements for Inclusion of Women and Racial and Ethnic Minorities in Research

AR-7 Executive Order 12372 Review

AR-10 Smoke-Free Workplace Requirements

AR-11 Healthy People 2010

AR-12 Lobbying Restrictions

I. Authority and Catalog of Federal Domestic Assistance Number

This program is authorized under the Public Health Service Act Sections 301(a)[42 U.S.C. 241(a)] and 317(k)(2)[42 U.S.C. 247b(k)(2)], as amended. The Catalog of Federal Domestic Assistance number is 93.283.

J. Where To Obtain Additional Information

To obtain additional information, contact: Andrea Wooddall, Grants Management Specialist, Grants Management Branch, Procurement and Grants Office, Centers for Disease Control and Prevention, Room 3000, 2920 Brandywine Road, Atlanta, GA 30341-4146, Telephone number: (770) 488-2749, Email address: AWooddall@cdc.gov.

For program technical assistance, contact: John T. Roehrig, Ph.D., Arbovirus Diseases Branch, Division of Vector-Borne Infectious Diseases, National Center for Infectious Diseases, Centers for Disease Control and Prevention (CDC), P. O. Box 2087 (Mailstop P02), Fort Collins, CO 80522, Telephone number: (970) 221-6465; Fax: (970) 221-6476, Email: jtr1@cdc.gov.

Attachments (The following articles are included in the mailed application kit):

Attachment II: MMWR, Outbreak of West Nile-Like Viral Encephalitis—New York, 1999. October 1, 1999/48(38);845-9.

Attachment III: MMWR, Update: West Nile-Like Viral Encephalitis—New York, 1999. October 8, 1999/48(39);890-2.

Attachment IV: MMWR, Update: West Nile Virus Encephalitis—New York, 1999. October 22, 1999/48(41);944-946, 955.

Dated: June 13, 2000.
John L. Williams,
Director, Procurement and Grants Office, Centers for Disease Control and Prevention (CDC).

[FR Doc. 00-15372 Filed 6-16-00; 8:45 am]

BILLING CODE 4163-18-P